NATIONAL FOUNDATION FOR THE ARTS AND THE HUMANITIES

Institute of Museum and Library Services

Submission for OMB Review, Comment Request, Proposed Collection: 2022-2024 Grant Performance Report Forms

AGENCY: Institute of Museum and Library Services.

ACTION: Submission for OMB review, comment request.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of one interim and one final performance report form for the agency's discretionary grant programs. A copy of the proposed information collection request can be obtained by contacting the individual listed below in the FOR FURTHER INFORMATION CONTACT section of this Notice.

DATES: Written comments must be submitted to the office listed in the ADDRESSES section below on or before February 27, 2022.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Connie Bodner, Director, Office of Grants Policy and Management, Institute of Museum and Library Services, 955 L'Enfant Plaza North SW, Suite 4000, Washington, DC 20024-2135. Dr. Bodner can be reached by telephone at 202-653-4636, or by email at cbodner@imls.gov. Persons who are deaf or hard of hearing (TTY users) can contact IMLS at 202-207-7858 via 711 for TTY-Based Telecommunications Relay Service.

SUPPLEMENTARY INFORMATION: The Institute of Museum and Library Services (IMLS) is the primary source of federal support for the nation's libraries and museums. We advance, support, and empower America's museums, libraries, and related organizations through grant making, research, and policy development. To learn more, visit www.imls.gov.

Current Actions: The purpose of this collection is to facilitate the administration of IMLS discretionary grant programs by creating a record of all IMLS-funded project activities, results, and accomplishments at annual intervals throughout the grant period and at the conclusion of each award; accounts of best practices and lessons learned; and assessments of performance measurement. Although specific goals, objectives, and eligibility criteria vary among the agency's grant programs, using standardized performance report forms helps ensure consistent information collection, systematic monitoring practices, and comparable analyses of performance. IMLS uses this information to monitor individual grants, report to Congress and the Office of Management and Budget about the agency's progress in addressing its strategic goals, and to improve its grant programs. The forms submitted for public review in this Notice are the IMLS Interim Performance Report Form and the IMLS Final Performance Report Form. This action is to seek approval for these two forms for the next three years.

The 60-day Notice was published in the Federal Register on January 8, 2021 (86 FR 1534). No comments were received.

Agency: Institute of Museum and Library Services.

Title of Collection: 2022-2024 Grant Performance Report Forms.

OMB Control Number: 3137-0100.

Agency Number: 3137.

Affected Public: Library and museum grant program awardees.

Total Number of Respondents: 1,220.

Frequency of Response: Varies over a 3-year period.

Average Hours per Response: 8.75.

Total Burden Hours: 10,680.

Total Annualized Capital/Startup Costs: n/a.

Total Annual Cost Burden: $321,468.00.

Total Annual Federal Costs: $78,462.00.

Dated: January 25, 2022.
Suzanne Mbollo,
Grants Management Specialist, Institute of Museum and Library Services.

[FR Doc. 2022-01720 Filed 1-27-22; 8:45 am]

BILLING CODE 7036-01-P